DEPARTMENT OF AGRICULTURE

Forest Service

Siuslaw Resource Advisory Committee

AGENCY: Forest Service, USDA.

ACTION: Notice of meeting.

SUMMARY: The Siuslaw Resource Advisory Committee will meet in Florence, OR. The purpose of the meeting is to determine how to spend Title II Payments to Counties Funds. The agenda includes: Finalization of FY 2004 projects and a public forum.

DATES: The meeting will be held July 31, 2003 beginning at 9 a.m.

ADDRESSES: The meeting will be held at the Siuslaw Valley Fire and Rescue Station, 2625 Hwy 101, Florence, OR 97439.

FOR FURTHER INFORMATION CONTACT: Linda Stanley, Community Development Specialist, Siuslaw National Forest, 541/750-7210 or write to Forest Supervisor, Siuslaw National Forest, PO Box 1148, Corvallis, OR 97339.

SUPPLEMENTARY INFORMATION: A public input period will begin at 12:15 p.m. The meeting is expected to adjourn at 1 p.m.

Dated: July 16, 2003.
Joni Quarnstrom,
Acting Forest Supervisor.

[FR Doc. 03-18587 Filed 7-21-03; 8:45 am]

BILLING CODE 3410-11-M